DEPARTMENT OF JUSTICE

Notice of Lodging of Modified Consent Decree Pursuant to the Clean Water Act

In accordance with 28 CFR 50.7, notice is hereby given that on July 8, 2005, a Modified Consent Decree was lodged with the United States District Court for the District of Massachusetts in United States and Commonwealth of Massachusetts v. City of Gloucester, Civil Action No. 89-2206-WGY.

The Modified Consent Decree resolves the plaintiffs' claims against the City of Gloucester for violations of the Consent Decree entered by the United States District Court for the District of Massachusetts on or about April 7, 1992, and subsequently amended, and for violations of the Clean Water Act, 33 U.S.C. 1251, et seq., and the Massachusetts Clean Waters Act, M.G.L. c. 21, section 26 et seq., with respect to discharges from the City of Gloucester's combined sewer overflows (“CSOs”). The Modified Consent Decree would supersede the 1992 Consent Decree.

The Modified Consent Decree requires the City of Gloucester to complete facilities planning, design, and construct several projects to eliminate or reduce discharges of CSOs from the City of Gloucester CSO outfalls 002, 004, 005, 006, and 006A, in accordance with schedules of compliance set forth in the Modified Consent Decree. The Modified Consent Decree also requires the City to undertake certain other projects designed to abate discharges of pollutants to receiving waters, including implementation of a plan to remove infiltration and inflow from the City's sewer system, implementation of a CSO Management Plan, and construction of facilities to achieve compliance with the effluent limitations for chlorine in the City's discharge permit. The Modified Consent Decree also requires the City to pay a civil penalty of $60,000. In addition, in partial mitigation of the claims of the Commonwealth of Massachusetts, Gloucester is required to design and perform a supplemental environmental project consisting of a public outreach and educational campaign.

The Department of Justice will receive comments relating to the proposed Consent Decree for a period of thirty (30) days from the date of this publication. Comments should be addressed to the Assistant Attorney General, Environmental and Natural Resources Division, Department of Justice, P.O. Box 7611, Washington, DC 20044, and should refer to United States v. City of Gloucester, D.J. Ref. 90-5-1-1-3388.

The proposed consent decree may be examined at the office of the United States Attorney, Suite 9200, 1 Courthouse Way, Boston, Massachusetts 02210, and at the Region I office of the Environmental Protection Agency, One Congress Street, Suite 1100, Boston, Massachusetts 02114. During the public comment period, the Consent Decree may also be examined on the following Department of Justice Web site, http://www.usdoj.gov/enrd/open.html. A copy of the proposed Consent Decrees may also be obtained by mail from the Consent Decree Library, P.O. Box 7611, U.S. Department of Justice, Washington, DC 20044-7611 or by faxing or e-mailing a request to Tonia Fleetwood (tonia.fleetwoood@usdoj.gov), fax no. (202) 514-0097, phone confirmation no. (202) 514-1547. For a copy of the proposed Consent Decree including the signature pages and attachments. In requesting a copy, please enclose a check (there is a 25 cent per page reproduction cost) in the amount of $10.50 payable to the U.S. Treasury.

Ronald G. Gluck,
Assistant Chief, Environmental Enforcement Section, Environment & Natural Resources Division.

[FR Doc. 05-14271 Filed 7-19-05; 8:45 am]

BILLING CODE 4410-15-M